DEPARTMENT OF THE INTERIOR

Bureau of Land Management

[CA-680-00-1220-HQ]

Supplemental Rule Restricting Recreational Shooting to Protect Human Health and Safety in a Portion of Wonder Valley, California

AGENCY: Bureau of Land Management, Department of the Interior, Barstow Field Office, Desert District, California.

ACTION: On those public lands administered by the BLM and located within T.1 N., R.10 E., Sec 5 S½ and Sec 8 N½, San Bernardino Meridian, it is prohibited to fire any firearm. This supplemental rule does not affect the legitimate and legal pursuit of game or the discharge of a firearm for purposes of personal protection.

SUMMARY: In accordance with Title 43, Code of Federal Regulations Section 8365.1-6 the State Director may establish supplementary rules in order to provide for the protection of persons, property and public lands and resources. This authority was delegated to the District Managers and Field Managers pursuant to BLM Manual 1203, California Supplement.

Penalties: Failure to comply with this supplementary rule is punishable by a fine not to exceed $100,000 and/or imprisonment not to exceed twelve months.

DATES: The supplemental rule will take effect at midnight, August 1, 2000.

SUPPLEMENTARY INFORMATION: This supplemental rule was proposed to create a safer environment for residents living in northwestern Wonder Valley. Residents have complained that rounds from gunfire originating on public land has either caused property damage or nearly caused human injury. During a sixty-day comment period and an open house, many legitimate concerns regarding shooting in Wonder Valley surfaced. Comments received spanned the gamut between closing all of Wonder Valley to all shooting and taking no action. Consensus was, that by closing the 640-acres surrounding the Valle Vista uncontrolled shooting area in northwest Wonder Valley to shooting, the safety concerns of nearby citizens could be met while allowing recreational shooting to continue in other portions of Wonder Valley. The user group for the Valle Vista site will be redirected to controlled ranges or dispersed to contiguous blocks of public land on the fringes of Wonder Valley. This supplemental rule will not infringe upon Constitutional rights of an individual to own or possess a lawful firearm. The environmental effects of the suppelemntal rule have been analyzed separately by Environmental Assessment CA-680-00-29.

FOR ADDITIONAL INFORMATION CONTACT: BLM Barstow Field Office, 2601 Barstow Road, Barstow, CA 92231, telephone (760) 252-6000

Tim Read,
Field Manager.

[FR Doc. 00-16145 Filed 6-27-00; 8:45 am]

BILLING CODE 4310-40-M